Title 3—

The President

Proclamation 8317 of October 31, 2008

Veterans Day, 2008

By the President of the United States of America

A Proclamation

On Veterans Day, we pay tribute to the service and sacrifice of the men and women who in defense of our freedom have bravely worn the uniform of the United States.

From the fields and forests of war-torn Europe to the jungles of Southeast Asia, from the deserts of Iraq to the mountains of Afghanistan, brave patriots have protected our Nation's ideals, rescued millions from tyranny, and helped spread freedom around the globe. America's veterans answered the call when asked to protect our Nation from some of the most brutal and ruthless tyrants, terrorists, and militaries the world has ever known. They stood tall in the face of grave danger and enabled our Nation to become the greatest force for freedom in human history. Members of the Army, Navy, Air Force, Marines, and Coast Guard have answered a high calling to serve and have helped secure America at every turn.

Our country is forever indebted to our veterans for their quiet courage and exemplary service. We also remember and honor those who laid down their lives in freedom's defense. These brave men and women made the ultimate sacrifice for our benefit. On Veterans Day, we remember these heroes for their valor, their loyalty, and their dedication. Their selfless sacrifices continue to inspire us today as we work to advance peace and extend freedom around the world.

With respect for and in recognition of the contributions our service members have made to the cause of peace and freedom around the world, the Congress has provided (5 U.S.C. 6103(a)) that November 11 of each year shall be set aside as a legal public holiday to honor America's veterans.

NOW, THEREFORE, I, GEORGE W. BUSH, President of the United States of America, do hereby proclaim November 11, 2008, as Veterans Day and urge all Americans to observe November 9 through November 15, 2008, as National Veterans Awareness Week. I encourage all Americans to recognize the bravery and sacrifice of our veterans through ceremonies and prayers. I call upon Federal, State, and local officials to display the flag of the United States and to support and participate in patriotic activities in their communities. I invite civic and fraternal organizations, places of worship, schools, businesses, unions, and the media to support this national observance with commemorative expressions and programs.

IN WITNESS WHEREOF, I have hereunto set my hand this thirty-first day of October, in the year of our Lord two thousand eight, and of the Independence of the United States of America the two hundred and thirty-third.

[FR Doc. E8-26526

Filed 11-4-08; 8:45 am]

Billing code 3195-W9-P